DEPARTMENT OF THE TREASURY

Office of Foreign Assets Control

Unblocking of One Specially Designated National and Blocked Person Pursuant to Executive Order 13448

AGENCY: Office of Foreign Assets Control, Treasury.

ACTION: Notice.

SUMMARY: The Treasury Department's Office of Foreign Assets Control (“OFAC”) is publishing the name of one individual whose property and interests in property has been unblocked pursuant to Executive Order 13448 of October 18, 2007 (“Blocking Property and Prohibiting Certain Transactions Related to Burma”) (“E.O. 13448”).

DATES: The unblocking and removal from the list of Specially Designated Nationals and Blocked Persons (“SDN List”) of the individual identified in this notice whose property and interests in property was blocked pursuant to Executive Order 13448 of October 18, 2007, is effective on January 24, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's web site (www.treasury.gov/ofac) or via facsimile through a 24-hour fax-on demand service tel.: (202) 622-0077.

Background

On October 18, 2007, President George W. Bush signed E.O. 13448 pursuant to, inter alia, the International Emergency Economic Powers Act (50 U.S.C. 1701 et. seq.). In E.O. 13448, the President took additional steps with respect to, and expanded, the national emergency declared in Executive Order 13047 of May 20, 1997, to address the Government of Burma's continued repression of the democratic opposition in Burma. The President identified twelve individuals and entities in the Annex to E.O. 13448 as subject to the economic sanctions imposed by that Order.

Section 1 of E.O. 13448 blocks, with certain exceptions, all property and interests in property that are in, or come within, the United States, or that are or come within the possession or control of United States persons, including their overseas branches, of the persons listed in the Annex to E.O. 13448, as well as those persons determined by the Secretary of the Treasury, after consultation with the Secretary of State, to satisfy any of the criteria set forth in subparagraphs (b)(i)-(b)(vi) of Section 1.

On February 5, 2008, the Director of OFAC, after consultation with the Department of State designated, pursuant to one or more of the criteria set forth in Section 1, subparagraphs (b)(i)-(b)(vi) of E.O. 13448, the individual listed below, whose property and interests in property were blocked pursuant to the Order.

On January 24, 2013, the Director of OFAC removed and unblocked from the SDN List the individual listed below, whose property and interests in property were blocked pursuant to E.O. 13448:

1. THEIN, U Kyaw, 503 Sembawang Road, #02-29 757707, Singapore; c/o Air Bagan Holdings Pte. Ltd., undetermined; c/o Htoo Wood Products Pte. Ltd., undetermined; c/o Pavo Aircraft Leasing Pte. Ltd., undetermined; c/o Pavo Trading Pte. Ltd., undetermined; DOB 25 Oct 1947; nationality Burma; citizen Burma; National ID No. S2733659J (Singapore) issued 07 Jul 2005; permanent resident Singapore (individual) [BURMA].

Dated: January 24, 2013.
Adam J. Szubin,
Director, Office of Foreign Assets Control.

[FR Doc. 2013-01855 Filed 1-28-13; 8:45 am]

BILLING CODE 4810-AL-P